DEPARTMENT OF COMMERCE

National Oceanic and Atmospheric Administration

RIN 0648-XA354

Endangered Species; File No. 15606

AGENCY: National Marine Fisheries Service (NMFS), National Oceanic and Atmospheric Administration (NOAA), Commerce.

ACTION: Issuance of permit.

SUMMARY: Notice is hereby given that Andre Landry, Ph.D., Texas A&M University at Galveston, Department of Marine Biology, 5007 Avenue U, Galveston, TX 77553, has been issued a permit to take green (Chelonia mydas), Kemp's ridley (Lepidochelys kempii), loggerhead (Caretta caretta), and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

FOR FURTHER INFORMATION CONTACT: Colette Cairns or Amy Hapeman, (301) 713-2289.

SUPPLEMENTARY INFORMATION: On November 24, 2010, notice was published in the Federal Register (75 FR 71670) that a request for a scientific research permit to take green, Kemp's ridley, loggerhead, and hawksbill sea turtles had been submitted by the above-named individual. The requested permit has been issued under the authority of the Endangered Species Act of 1973, as amended (ESA; 16 U.S.C. 1531 et seq.) and the regulations governing the taking, importing, and exporting of endangered and threatened species (50 CFR parts 222-226).

Dr. Landry was issued a 5 year permit to: (1) Examine green sea turtle assemblages in sea grass habitats off of Texas; (2) determine trends in seasonal abundance and movement of green, Kemp's ridley, and loggerhead sea turtles in Texas and Louisiana estuaries; (3) characterize environmental estrogen uptake in green and Kemp's ridley sea turtles at a Texas Superfund site; and (4) document impacts of the Deepwater Horizon oil spill on sea turtle assemblages in the western Gulf of Mexico. Researchers may capture by entanglement or cast net, transport, photograph, measure, weigh, flipper tag, passive integrated transponder tag, blood, fecal, epiphyte and tissue sample, attach satellite transmitters to and release sea turtles.

Issuance of this permit, as required by the ESA, was based on a finding that such permit (1) was applied for in good faith, (2) will not operate to the disadvantage of such endangered or threatened species, and (3) is consistent with the purposes and policies set forth in section 2 of the ESA.

Dated: April 4, 2011.
P. Michael Payne,
Chief, Permits, Conservation and Education Division, Office of Protected Resources, National Marine Fisheries Service.

[FR Doc. 2011-8593 Filed 4-11-11; 8:45 am]

BILLING CODE 3510-22-P